DEPARTMENT OF ENERGY

Federal Energy Regulatory Commission

[Docket No. RP01-91-000]

El Paso Natural Gas Co.; Notice of Tariff Filing

November 15, 2000.

Take notice that on November 9, 2000, El Paso Natural Gas Company (El Paso) tendered for filing as part of its FERC Gas Tariff, the following tariff sheets, in compliance with the Commission's order issued September 19, 2000 at Docket No. RP00-313-000, with an effective date of January 1, 2001:

Second Revised Volume No. 1-A

Eighteenth Revised Sheet No. 20

Twelfth Revised Sheet No. 22

Eighteenth Revised Sheet No. 23

Twenty-Second Revised Sheet No. 24

Eighteenth Revised Sheet No. 26

Eighteenth Revised Sheet No. 27

Fourteenth Revised Sheet No. 28

Fifth Revised Sheet No. 37

Fifth Revised Sheet No. 38

Seventh Revised Sheet No. 256

Seventh Revised Sheet No. 257

Third Revised Volume No. 2

Forty-Seventh Revised Sheet No. 1-D.2

Forty-First Revised Sheet No. 1-D.3.

El Paso states that the tariff sheets are being filed to revise the Gas Research Institute surcharges and to update the identification of low and high load factor shippers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A Watson, Jr.,
Acting Secretary.

[FR Doc. 00-29686 Filed 11-20-00; 8:45 am]

BILLING CODE 6717-01-M